NATIONAL SCIENCE FOUNDATION

Agency Information Collection Activities: Comment Request; 2023 National Survey of College Graduates

AGENCY: National Center for Science and Engineering Statistics, National Science Foundation.

ACTION: Submission for OMB review; comment request.

SUMMARY: The National Center for Science and Engineering Statistics (NCSES) within the National Science Foundation (NSF) has submitted the following information collection requirement to OMB for review and clearance under the Paperwork Reduction Act of 1995. This is the second notice for public comment; the first was published in the Federal Register and two comments were received. NCSES is forwarding the proposed information collection to the Office of Management and Budget (OMB) for clearance simultaneously with the publication of this second notice. The full submission may be found at: http://www.reginfo.gov/public/do/PRAMain.

DATES: Written comments and recommendations for the proposed information collection should be sent within 30 days of publication of this notice to www.reginfo.gov/public/do/PRAmain. Find this particular information collection by selecting “Currently under 30-day Review—Open for Public Comments” or by using the search function.

FOR FURTHER INFORMATION CONTACT: Suzanne H. Plimpton, Reports Clearance Officer, National Science Foundation, 2415 Eisenhower Avenue, Alexandria, VA 22314, or send email to splimpto@nsf.gov. Individuals who use a telecommunications device for the deaf (TDD) may call the Federal Information Relay Service (FIRS) at 1-800-877-8339, which is accessible 24 hours a day, 7 days a week, 365 days a year (including Federal holidays). Comments regarding this information collection are best assured of having their full effect if received within 30 days of this notification. Copies of the submission(s) may be obtained by calling 703-292-7556.

Comments: Comments regarding (a) whether the proposed collection of information is necessary for the proper performance of the functions of the NSF, including whether the information shall have practical utility; (b) the accuracy of the NSF's estimate of the burden of the proposed collection of information; (c) ways to enhance the quality, use, and clarity of the information on respondents; and (d) ways to minimize the burden of the collection of information on those who are to respond, including through the use of appropriate automated, electronic, mechanical, or other technological collection techniques or other forms of information technology should be addressed to the points of contact in the FOR FURTHER INFORMATION CONTACT section.

NSF may not conduct or sponsor a collection of information unless the collection of information displays a currently valid OMB control number and the agency informs potential persons who are to respond to the collection of information that such persons are not required to respond to the collection of information unless it displays a currently valid OMB control number.

SUPPLEMENTARY INFORMATION:

Comments: As required by 5 CFR 1320.8(d), comments on the information collection activities as part of this study were solicited through the publication of a 60-day notice in the Federal Register on 4 May 2022, at 87 FR 26375. We received two comments. The nature of each comment and our responses are summarized below.

Comment: On 4 May 2022, Dr. Andrew Reamer of George Washington University sent an email to NSF on behalf of the American Economic Association and the Industry Studies Association. He requested the draft information collection request (ICR) materials for the 2023 NSCG.

Response: NSF responded to Dr. Reamer on 13 May 2022, explaining that the 2023 NSCG ICR materials were in the process of being prepared and that the NSCG would be largely unchanged from its 2021 design, except that all the COVID-related items would be removed from the questionnaire such that the content would be returned to what it was in 2019.

Comment: On 24 June 2022, Dr. Jacqueline Robinson-Hamm sent an email to NSF on behalf of Dr. Patricia Morris, President of the Federation of American Societies for Experimental Biology (FASEB). FASEB recommended that the National Center for Science and Engineering Statistics (NCSES) expand its efforts to collect sexual orientation and gender identity (SOGI) data via its workforce surveys.

Response: NSF responded to Drs. Morris and Robinson-Hamm on 4 August 2022, informing them that NCSES continues to take a measured approach to adding SOGI questions to its surveys, to appropriately balance data quality, respondent burden, confidentiality, and data user needs, and directing them to an FAQ on the NCSES website (here).

Title of Collection: 2023 National Survey of College Graduates.

OMB Control Number: 3145-0141.

Summary of Collection: The National Survey of College Graduates (NSCG) has been conducted biennially since the 1970s. The 2023 NSCG sample will be selected from the 2021 American Community Survey (ACS) and the 2021 NSCG, providing coverage of the college graduate population residing in the United States. The purpose of this repeated cross-sectional survey is to collect data that will be used to provide national estimates on the science and engineering workforce and changes in their employment, education, and demographic characteristics.

The National Science Foundation Act of 1950, as subsequently amended, includes a statutory charge to “. . . provide a central clearinghouse for the collection, interpretation, and analysis of data on scientific and engineering resources, and to provide a source of information for policy formulation by other agencies of the Federal Government.” The NSCG is designed to comply with these mandates by providing information on the supply and utilization of the nation's scientists and engineers.

The U.S. Census Bureau, as in the past, will conduct the NSCG for NSF. The survey data collection will begin in March 2023 using web and mail questionnaires. Nonrespondents to the web or mail questionnaire will be followed up by computer-assisted telephone interviewing. The individual's response to the survey is voluntary. The survey will be conducted in conformance with Census Bureau statistical quality standards and, as such, the NSCG data will be afforded protection under the applicable Census Bureau confidentiality statutes.

Use of the Information: NSF uses the information from the NSCG to prepare congressionally mandated reports such as Women, Minorities and Persons with Disabilities in Science and Engineering and Science and Engineering Indicators. A public release file of collected data, designed to protect respondent confidentiality, will be made available to researchers on the internet.

Expected Respondents: A statistical sample of approximately 166,000 persons will be contacted in 2023. NSF estimates the 2023 NSCG response rate to be 65 to 75 percent.

Estimate of Burden: The amount of time to complete the questionnaire may vary depending on an individual's circumstances; however, on average it will take approximately 25 minutes to complete the survey. NSF estimates that the average annual burden for the 2023 NSCG over the course of the three-year OMB clearance period will be no more than 17,292 hours [(166,000 sample persons × 75% response × 25 minutes)/3 years].

Dated: December 8, 2022.
Suzanne H. Plimpton,
Reports Clearance Officer, National Science Foundation.

[FR Doc. 2022-27035 Filed 12-13-22; 8:45 am]

BILLING CODE 7555-01-P